DEPARTMENT OF THE INTERIOR

Bureau of Land Management

[WO-250-1220-PA-24 1A]

Bureau of Land Management (BLM) Implementation of Recreation Resource Advisory Committee Provisions of the Federal Lands Recreation Enhancement Act (Public Law 108-447, Div. J, Title VIII)

AGENCY: Bureau of Land Management, Department of the Interior.

ACTION: Notice of BLM implementation of the Recreation Resource Advisory Committee provisions of the Federal Lands Recreation Enhancement Act.

SUMMARY: Notice is hereby given of the Bureau of Land Management's (BLM's) implementation of the Recreation Resource Advisory Committee provisions of the Federal Lands Recreation Enhancement Act.

Pursuant to the Federal Lands Recreation Enhancement Act and a signed Interagency Agreement between the Department of the Interior and the Department of Agriculture, the BLM will utilize existing BLM Resource Advisory Councils to make recommendations on BLM and Forest Service recreation fee issues in the following States: Arizona, Idaho, Montana, Nevada, New Mexico, North Dakota, South Dakota and Utah.

Both the BLM and the FS will use new Recreation RACs, chartered by the FS, for the Pacific Northwest Region (Oregon and Washington), the Pacific Southwest Region (California), the State of Colorado, and for the Eastern and Southern Regions (these represent most States east of the Rockies).

Any of the existing BLM Resource Advisory Councils or the new FS-chartered RRACs may also establish Subcommittees for recreation fee-related matters.

Note: Neither the FS nor the BLM will use Recreation RACs where the Secretaries of Agriculture and the Interior, in consultation with the Governor of individual States, have determined that sufficient interest does not exist in forming a FS-chartered Recreation RAC or using a BLM RAC as allowed in the Recreation Enhancement Act (REA). Those States that are not establishing Recreation RACs are Alaska, Wyoming and Nebraska.

FOR FURTHER INFORMATION CONTACT: Patrick Wilkinson, U.S. Department of the Interior, Bureau of Land Management, 1849 C Street, MS-LS-250, Washington, DC, 20240; 202-452-7796.

SUPPLEMENTARY INFORMATION: The Federal Lands Recreation Enhancement Act (REA), enacted December 8, 2004, directs the Secretary of the Interior, the Secretary of Agriculture, or both, to establish Recreation Resource Advisory Committees, or to use existing Resource Advisory Councils or boards to perform the duties of Recreation Resource Advisory Committees, in each State or region for Federal recreation lands and waters managed by the BLM or Forest Service. These committees, councils or boards will make recreation fee program recommendations on:

• Implementing or eliminating standard amenity fees, expanded amenity fees, and non-commercial, individual special recreation permit fees;

• Expanding or limiting the recreation fee program; and

• Changing fee levels.

REA also states that the Secretaries shall not establish a Recreation Resource Advisory Committees in a State if the Secretaries determine, in consultation with the Governor of the State, that sufficient interest does not exist to ensure that participation on the committee is balanced in terms of the points of view represented and the functions to be performed.

To help determine the appropriate configuration of these advisory groups, the BLM and the Forest Service held 11 listening sessions in Idaho, Oregon, California, Colorado, Arizona, Nevada, Georgia, and Washington DC, during June and July of 2005. Attendees included key partners, organizations with an interest in recreation management on Federal lands, and existing BLM and Forest Service Resource Advisory Council members.

After more than a year of these public meetings, internal agency analysis, and legal review, the agencies established an organizational structure that has been approved by both the Department of the Interior and the Department of Agriculture. This organization includes using existing BLM Resource Advisory Councils where appropriate. It also includes establishing five new Recreation Resource Advisory Committees for the Forest Service's Eastern, Southern, Pacific Northwest (including BLM states of Oregon and Washington), Pacific Southwest (including the BLM state of California) Regions and the State of Colorado; using an existing Forest Service advisory committee for one Forest; and not establishing Recreation Resource Advisory Committees where Secretaries, in consultation with the Governor of each State, have determined that sufficient interest does not exist as allowed in REA (Alaska, Nebraska, and Wyoming).

The agencies and Secretaries have signed an Interagency Agreement which provides the structure necessary for the Forest Service to use existing BLM Resource Advisory Councils and the BLM to use Forest Service-established Recreation Resource Advisory Committees for the purposes stated in REA. Where the Agencies determined it was inappropriate to use existing BLM Advisory Councils, the Agencies have agreed to either: (1) Establish a new Recreation RAC, which may serve both Agencies or may only serve one Agency; (2) use an existing FS advisory committee; or (3) not establish a Recreation RAC in a State where the Secretaries, in consultation with the Governor of the affected State, have determined that sufficient interest does not exist, as allowed under REA.

For the new Recreation Resource Advisory Committees, the Forest Service will be the lead agency (including the BLM states of California, Colorado, Oregon and Washington). The BLM will continue to be the lead agency for its Resource Advisory Councils.

Dated: June 8, 2006.
Kathleen Clarke,
Director.

[FR Doc. 06-8105 Filed 9-21-06; 8:45 am]

BILLING CODE 4310-84-P